COMMITTEE FOR PURCHASE FROM PEOPLE WHO ARE BLIND OR SEVERELY DISABLED

Procurement List; Proposed Changes

AGENCY: Committee for Purchase From People Who Are Blind or Severely Disabled.

ACTION: Proposed changes to the Procurement List.

SUMMARY: The Committee is proposing to change requirements for products already existing on the Procurement List that will be furnished by nonprofit agencies employing persons who are blind or have other severe disabilities.

DATES: Comments must be received on or before: May 12, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Changes

If the Committee approves the proposed changes, the entities of the Federal Government identified in this notice will be required to procure the product(s) listed below from nonprofit agencies employing persons who are blind or have other severe disabilities.

NSN(s)—Product Name(s):

8415-01-670-9017—Coat, Improved Hot Weather Combat Uniform (IHWCU), Permethrin, Unisex, Army, OCP 2015 (s)

Authorized Source of Supply: Goodwill Industries of South Florida, Inc., Miami, FL

Authorized Source of Supply: ReadyOne Industries, Inc., El Paso, TX

Contracting Activity: DEFENSE LOGISTICS AGENCY, DLA TROOP SUPPORT

The Commission is correcting its Notice of 4/12/2024 which stated that the mandatory purchase requirement for the Improved Coat, Improved Hot Weather Combat Uniform (IHWCU), Permethrin, Unisex would be 70,900. The correct mandatory purchase amount is 270,900.

Michael R. Jurkowski,
Director, Business Operations.

[FR Doc. 2024-08418 Filed 4-18-24; 8:45 am]

BILLING CODE 6353-01-P